NATIONAL FOUNDATION FOR THE ARTS AND THE HUMANITIES

Institute of Museum and Library Services

Notice of Proposed Information Collection Request: Evaluation of the Boston Children's Museum's Building a National Network of Museums and Libraries for School Readiness (SRP) Project

AGENCY: Institute of Museum and Library Services, National Foundation for the Arts and the Humanities.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. This action is to create the overall evaluation plan, survey, and data collection instruments and instructions for the various evaluation techniques to be used at different points in the development and implementation of the SRP project for the next three years.

A copy of the proposed information collection request can be obtained by contacting the individual listed below in the ADDRESSES section of this notice.

DATES: Written comments must be submitted to the office listed in the addressee section below on or before December 31, 2019.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Kim Miller, Director, Office of Grants Policy and Management, Institute of Museum and Library Services, 955 L'Enfant Plaza North SW, Suite 4000, Washington, DC 20024-2135. Ms. Miller can be reached by Telephone: 202-653-4762, or by email at kmiller@imls.gov, or by teletype (TTY/TDD) for persons with hearing difficulty at 202-653-4614.

FOR FURTHER INFORMATION CONTACT: Reagan Moore, Museum Program Officer, Office of Museum Services, Institute of Museum and Library Services, 955 L'Enfant Plaza North SW, Suite 4000, Washington, DC 20024-2135. She can be reached by Telephone: 202-653-4637; Fax: 202-653-4608; email at rmoore@imls.gov; or teletype (TTY/TDD) for persons with hearing difficulty at 202-653-4614.

SUPPLEMENTARY INFORMATION:

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

The Building a National Network of Museums and Libraries for School Readiness (SRP) is a project funded by IMLS that seeks to undertake a multilevel approach to expanding nationwide the IMLS-funded School Readiness through Partnerships model that addresses persistent gaps in early childhood education and school readiness. The goal of the SRP is to amplify the strength of organizations serving children and families by forming coalitions that ensure all children in their regions, regardless of socio-economic or linguistic background, have the skills needed to enter school prepared for success. Strongly aligned with the IMLS's goal to build capacity for museum and library staff, the SRP will engage six states and institutions nationwide in harnessing the power of museums and libraries to support school readiness.

Over the three year project timeline, BCM will maintain and continuously improve existing networks in Massachusetts; scale existing efforts in South Carolina and Virginia; pilot grassroots museum and library networks in three additional states (TBD) in collaboration with the BUILD Initiative (“BUILD”); and develop sustainability mechanisms for the network within and among the states. By the end of three years, there will be six statewide networks in sustaining mode nationwide. All of this will be done in consultation with IMLS. The Education Development Center (EDC) will serve as the third-party evaluator for the project, documenting the progress and testing the effectiveness of the model in building institutional readiness to serve families in their regions. The evaluation will accomplish three key goals: (1) Document project activities and implement the network model, (2) identify institutional capacities and cross-organizational relationships that support model outreach, implementation, and sustainability, and (3) assess the perceived impact of the model among hub leaders, key partners, collaborating organizations, and participating families. EDC will use a mixed-methods design, pairing quantitative survey data with qualitative interview data.

The current action is to create the overall evaluation plan, survey, and data collection instruments and instructions for the evaluation techniques to be used at different points in the development and implementation of the SRP project over the next three years.

Agency: Institute of Museum and Library Services.

Title: Building a National Network of Museums and Libraries for School Readiness Evaluation.

OMB Number: 3137-TBD.

Frequency: Once.

Affected Public: Museum staff, library staff, families.

Number of Respondents: TBD.

Estimated Average Burden per Response: TBD hours.

Estimated Total Annual Burden: TBD hours.

Total Annualized capital/startup costs: N/A.

Total Annual costs: TBD.

Public Comments Invited: Comments submitted in response to this notice will be summarized and/or included in the request for OMB's clearance of this information collection.

Dated: October 30, 2019.
Kim Miller,
Grants Management Specialist,Institute of Museum and Library Services.

[FR Doc. 2019-24010 Filed 11-1-19; 8:45 am]

BILLING CODE 7036-01-P